COMMITTEE FOR THE IMPLEMENTATION OF TEXTILE AGREEMENTS

Request for Public Comments on the Elimination of the Paper Visa Requirement for Certain Textile Products Exported from Korea

August 28, 2002.

AGENCY: Committee for the Implementation of Textile Agreements (CITA).

ACTION: Request for public comments.

FOR FURTHER INFORMATION CONTACT: Anna Flaaten, Office of Textiles and Apparel, U.S. Department of Commerce, (202) 482-3400.

SUPPLEMENTARY INFORMATION:

Authority: Section 204 of the Agricultural Act of 1945, as amended (7 U.S.C. 1854); Executive Order 11651 of March 3, 1972, as amended.

Pursuant to a textile visa arrangement between the United States and the Republic of Korea, certain textiles and textile products exported from Korea must be accompanied by a visa issued by the Government of the Republic of Korea in order to be imported in the United States. (See 56 FR 18574, published on April 23, 1991 and 61 FR 69082, published on December 31, 1996).

The Electronic Visa Information System (ELVIS) allows certain foreign governments to electronically transfer textile and textile product shipment information to the U.S. Customs Service and thereby issue a visa electronically. On December 31, 1996 (61 FR 69082), CITA announced that the Government of the Republic of Korea would begin implementation of a dual system, issuing both paper and electronic visas.

As a result of the successful use of the dual visa system, preparations are under way to move beyond the current dual system to the paperless ELVIS system with the Republic of Korea. Exempt goods, for example cottage industry handwoven and handloomed fabrics, handmade articles and garments of handwoven and handloomed fabrics, and traditional folklore handicraft products, would still require an exempt certification issued by the Government of the Republic of Korea.

CITA is soliciting public comments on the elimination of the paper visa requirement for the Republic of Korea and utilization of the ELVIS system exclusively. Comments must be received on or before November 4, 2002. Comments may be mailed to James C. Leonard, III, Chairman, Committee for the Implementation of Textile Agreements, Room 3001, U.S. Department of Commerce, 14th and Constitution Avenue, N.W., Washington, D.C. 20230.

The solicitation of comments is not a waiver in any respect of the exemption of the rulemaking provision contained in 5 U.S.C. 553(a)(1) relating to matters which constitute a foreign affairs function of the United States.

D. Michael Hutchinson,
Acting Chairman, Committee for the Implementation of Textile Agreements.

[FR Doc.02-22423 Filed 9-3-02; 8:45 am]

BILLING CODE 3510-DR-S